DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2002.

Last | First | Middle
Alexander | Marcus | Andre.
Andersen | Carl | Steinar.
Atkinson | Paul | Jeffrey.
Avramenko | Peter.
Bakr | Waleed | Talal.
Barre | Anne | Lowenstein.
Bastawisi | Ahmad | Ali Orabi.
Beglinger | Barbara | Elizabeth.
Belyea | Stephen | Charles.
Bigar | Wilhelmine | Maria.
Blankenship | Melissa | Ann.
Brazier-Creagh | Christopher | Anthony.
Bunnell | Doris | Kay.
Calvin | William Jr.
Chan | Albert | Sun Chi.
Chen | Nancy.
Chen | Hsuan | Chih.
Cleere | Michael | Joseph.
Clever | Martin | George.
Cochran | Terry | Colleen.
Coffin | Michael | Wayne.
Coffin | Russell | Wid.
Egli | William | John.
Elkann | Lapo | Edovard.
Eskenazi | Claudio | Cintra.
Falby | Ruth.
Farnsworth | Sara | Anne.
Geist | Aleksander | Olav.
Glover | Incha | Yu.
Goldsmith | Charlotte | Boulay De La Meurthe.
Grant | David | Raymond.
Greene | Paula.
Greene | Norvin | Gair.
Hamid | Mosbah | A Abdel.
Harel | Sharon.
Helies | Sonja.
Hienz | Stefan | Albert.
Hijazi | Muhannad | Nabil.
Hoffenberg | Jennings | Luis Igel.
Hoffman | Jutta | Marianne.
Honegger-Heller | Norina.
Hong | Min | Huong.
Hsu | Victor | Yee Yan.
Hui | Cindi | Ming Ming.
Hui | Vicki | Ching Ching.
Husted | Martha | A.
Jackson | Frances | Miriam.
Jaeggi | Matthias | Ernst.
Kaehny-Simonius | Jacqueline | Maria Elisabeth.
Kao | Betty | Lee.
Keehan | Anne | Louise.
Keil | Gerald | Cochran.
Keller-Sigg | Bettina | Claudia.
King | Andrea | Victoria.
Koppenhoefer | Ulrike | Janet.
Kroll | Fredric | Joseph.
Laake | Gertrud.
Lee | Tsyr-Hsioung.
Lehbruner | Franz | Josef.
Li | Wai | Kong.
Liem | Michael | Joseph Hsiang.
Loughran | James | Anthony.
Lu | Ping.
Martin | Nicolas | Alain.
Mazzi | Ferdinando.
Meacock | Timothy | Charles.
Mohamed | Kamal | Mohamed Helmy A.
Moltedo | Vittorio.
Moltedo | Laura | Braggion.
Monroe | Henry.
Mun | Chul.
Musitano | Joan | Hanako.
Myklestad | Terje.
Neves | Henrique | Sutton De Sousa.
Ordermatt | Allen | Joseph.
Ordonez | Michael | A.
Petty | Lee | Kitson.
Piasko | Elizabeth | Colson.
Pobst | Arnold | Roy.
Pollock | Bruce | Milton.
Poon | Roger | Fat Chi.
Powell | Jamie | Michael.
Radway | Sibilla | Maria.
Rishani | Ramzi | Youssef.
Rojas | Hermann | Joseph.
Rudolph | Peter | Klaus C.
Sasaki | Marina.
Scarboro | Andrea | Dale.
Schatz | Peer | Michael.
Schmaz | Ingeborg | Ursula.
Schmaz | Johannes | Erhard.
Schuk | Lynn | Elizabeth.
Seiler | Patricia | Jean.
Shapro | Norman | Lee.
Sheppard | Stanley | Alexander Ewing.
Shook | Corinne.
Sippel | Jason | Edwin.
Sursock | Roxana | Aleya Saphire.
Tenenbaum | Meyer | Abraham.
Thomas | Stanley | Joseph.
Tsai | John.
Tsui | Raymond | Tai Hoi.
Ulbrich | Tina | Schultz.
Ulvert | Charles | Joseph.
Van Skyhawk | Hugh | Charles.
Walti | Adrian.
Wantman | Mayer | Elihu.
Weir | Andrew | James.
Zitzlaff | Frank | Erich.

Dated: April 2, 2002.
Samuel Brown,
Team Manager—Examination Operation, Philadelphia Compliance Services.

[FR Doc. 02-9801 Filed 4-19-02; 8:45 am]

BILLING CODE 4830-01-P